DEPARTMENT OF HEALTH AND HUMAN SERVICES

Centers for Disease Control and Prevention

[Program Announcement 04266]

Comprehensive Care for HIV-Infected Residents of the Kibera Slum, Nairobi, Kenya; Notice of Intent To Fund Single Eligibility Award

A. Purpose

The Centers for Disease Control and Prevention (CDC) announces the intent to fund fiscal year (FY) 2004 funds for a cooperative agreement program to provide a model program for comprehensive AIDS care in Kenya. This program should specifically facilitate the feasibility and acceptability of providing antiretroviral (ARV) treatment, using locally appropriate approaches, and should operate in close collaboration with the Kenyan Ministry of Health. The Catalog of Federal Domestic Assistance number for this program is 93.941.

B. Eligible Applicant

Assistance will be provided only to the African Medical and Research Foundation (AMREF). In 2002, AMREF was selected from among several potential collaborators as the implementing partner for a pilot program of antiretroviral treatment in Kibera slum. The organization was chosen based on technical capacity, the fact that the organization was already operating a community-based clinic in an appropriate area (safe, accessible, serving extremely poor clientele) of Kibera slum, and the willingness of this partner to work in very close collaboration with the Ministry of Health, in line with CDC goals. The program implementation has been successful, and AMREF is the only organization appropriately situated to continue to operate the program. In addition to the characteristics that resulted in the initial selection, AMREF has now acquired critical additional technical expertise related to provision of clinic based services for people with HIV including ARV therapy, as well as with implementation of community-based services related to this care.

C. Funding

Approximately $500,000 is available in FY 2004 to fund this award. It is expected that the award will begin on or before August 15, 2004, and will be made for a 12-month budget period within a project period of up to five years. Funding estimates may change.

D. Where To Obtain Additional Information

For general comments or questions about this announcement, contact: Technical Information Management, CDC Procurement and Grants Office, 2920 Brandywine Road, Atlanta, GA 30341-4146, telephone: 770-488-2700.

For technical questions about this program, contact: Barbara Marston, M.D., Project Officer, Global Aids Program (GAP), Kenya Country Team, National Center for HIV, STD and TB Prevention, Centers for Disease Control and Prevention (CDC), PO Box 606 Village Market, Nairobi, Kenya, telephone: 256-20-271-3008, e-mail: bmarston@kisian.mimcom.net.

Dated: July 2, 2004.
William P. Nichols,
Acting Director, Procurement and Grants Office, Centers for Disease Control and Prevention.

[FR Doc. 04-15601 Filed 7-8-04; 8:45 am]

BILLING CODE 4163-18-P